NATIONAL FOUNDATION ON THE ARTS AND THE HUMANITIES

National Endowment for the Arts; Determination of the Chairperson of the National Endowment for the Arts Regarding Closure of Portions of Meetings of Advisory Committees (Advisory Panels)

Section 20 U.S.C. 959(c) of the National Foundation on the Arts and the Humanities Act of 1965, as amended (20 U.S.C. 951 et seq.) requires the Chairperson of the Endowment to utilize advisory panels to review applications for financial assistance to the National Endowment for the Arts and make recommendations to the Chairperson.

The Federal Advisory Committee Act (FACA), as amended (Pub. L. 92-463), governs the formation, use, conduct, management, and accessibility to the public of committees formed to advise and assist the Federal Government. Section 10 of that Act directs meetings of advisory committees to be open to the public, except where the head of the agency to which the advisory committee reports determines in writing that a portion of a meeting may be closed to the public consistent with subsection (c) of section 552b of Title 5, United States Code (the Government in the Sunshine Act).

It is the policy of the National Endowment for the Arts to make the fullest possible disclosure of records to the public, limited only by obligations of confidentiality and administrative necessity. In recognition that the Endowment is required to consider the artistic excellence and artistic merit of applications for financial assistance and that consideration of individual applications may require a discussion of matters such as an individual artist's abilities, reputation among colleagues, or professional background and performance, I have determined to reserve the right to close the portions of advisory committee meetings involving the review, discussion, evaluation, and ranking of grant applications. The purpose of the closure is to protect information of a personal nature where disclosure would constitute a clearly unwarranted invasion of personal privacy. Closure for this purpose is authorized by subsection (c)(6) of section 552b of Title 5, United States Code.

All other portions of the meetings of these advisory committees shall be open to the public unless the Chairperson of the National Endowment for the Arts or a designee determines otherwise in accordance with section 10(d) of the Act.

Further, in accordance with FACA, the Panel Coordinator shall be responsible for publication in the Federal Register of a notice of all advisory committee meetings. Such notice shall be published in advance of the meetings and contain:

1. Name of the committee and its purposes;

2. Date and time of the meeting, and, if the meeting is open to the public, its location and agenda; and

3. A statement that the meeting is open to the public, or, if the meeting or any portion thereof is not to be open to the public, a statement to that effect.

A record shall be maintained of any closed portions of panel meetings.

The Panel Coordinator is designated as the person from whom lists of committee members may be obtained and from whom minutes of open meetings or open portions thereof may be requested. On November 10, 2009, Chairman of the National Endowment for the Arts Rocco Landesman approved the determination to close the meetings.

Dated: December 10, 2009.
Kathy Plowitz-Worden,
Committee Management Officer.

[FR Doc. E9-29790 Filed 12-14-09; 8:45 am]

BILLING CODE 7537-01-P